CONSUMER PRODUCT SAFETY COMMISSION

Public Meeting Concerning Petition Requesting that ASTM F400-00, Safety Standard for Lighters, Be Adopted as a Consumer Product Safety Standard

AGENCY: Consumer Product Safety Commission.

ACTION: Notice of public meeting.

SUMMARY: The Consumer Product Safety Commission (“CPSC” or “Commission”) will conduct a public meeting on September 14, 2004 to receive comments concerning Petition CP 02-1, which requested that the Commission adopt a voluntary standard for cigarette lighters, ASTM F-400, as a mandatory standard under the Consumer Product Safety Act (“CPSA”). The CPSC staff's briefing package recommends that the Commission deny the petition. The Commission invites oral presentations from members of the public with information or comments related to the petition or the staff's briefing package. The Commission will consider these presentations as it decides what action to take on the petition.

DATES: The meeting will begin at 10 a.m. on September 14, 2004. Requests to make oral presentations, and 10 copies of the text of the presentation, must be received by the CPSC Office of the Secretary no later than September 7, 2004. Persons making presentations at the meeting should provide an additional 25 copies for dissemination on the date of the meeting.

The Commission reserves the right to limit the number of persons who make presentations and the duration of their presentations. To prevent duplicative presentations, groups will be directed to designate a spokesperson.

Written submissions, in addition to, or instead of, an oral presentation may be sent to the address listed below and will be accepted until October 14, 2004.

ADDRESSES: The meeting will be in room 420 of the Bethesda Towers Building, 4330 East-West Highway, Bethesda, MD. Requests to make oral presentations, and texts of oral presentations should be captioned “Lighter Petition Briefing” and be mailed to the Office of the Secretary, Consumer Product Safety Commission, Washington, DC 20207, or delivered to that office, Room 502, 4330 East-West Highway, Bethesda, MD 20814. Requests and texts of oral presentations may also be submitted by facsimile to (301) 504-0127 or by E-mail to cpsc-os@cpsc.gov.

FOR FURTHER INFORMATION CONTACT: For information about the purpose or subject matter of this meeting contact Rohit Khanna, Directorate for Engineering Sciences, U.S. Consumer Product Safety Commission, Washington, DC 20207; telephone (301) 504-7546; E-mail: rkhanna@cpsc.gov. For information about the schedule for submission of requests to make oral presentations and submission of texts of oral presentations, contact Rockelle Hammond, Office of the Secretary, Consumer Product Safety Commission, Washington, DC 20207; telephone (301) 504-6833; fax (301) 504-0127; E-mail rhammond@cpsc.gov.

SUPPLEMENTARY INFORMATION:

A. Background

The Commission received a petition, Petition CP 02-1, from the Lighter Association, Inc., a trade association representing the major U.S. manufacturers and distributors of cigarette lighters. The petition requested that the Commission issue a rule to make the voluntary standard “Standard Consumer Product Safety Specification for Lighters” (ASTM F-400) a mandatory consumer product safety standard. The petitioner asserted that unreasonable risks of injury are being created by failure to enforce the existing voluntary standard in the U.S. The petitioner stated that although most disposable lighters imported to the U.S. are child-resistant, they do not meet minimum safety standards followed by the U.S. lighter industry in accordance with the ASTM F-400 standard.

The Commission published a notice in the Federal Register on January 17, 2002, requesting comments on the petition. 67 FR 2420. The Commission received a total of 16 comments on the petition.

The staff reviewed the petition, comments and other relevant available information. The staff then forwarded a briefing package to the Commission, which is available on the Commission's website www.cpsc.gov or from the Commission's Office of the Secretary. The staff recommends that the Commission deny the petition. The staff concludes that injuries resulting from malfunctioning lighters are relatively infrequent. For the approximately 900 million lighters purchased by consumers in a year, the estimated risk of death from lighter malfunction is about 2.2 deaths per billion lighters. The estimated risk of injury is about 1.1 injuries per million lighters. Moreover, the incident data do not provide sufficient information to determine whether the lighters involved in these incidents conform to ASTM F-400. Thus, it is unclear whether mandating the voluntary standard would actually reduce incidents.

B. The Public Meeting

The purpose of the public meeting is to provide a forum for oral presentations on the cigarette lighter petition and the CPSC staff's briefing package.

Participation in the meeting is open. See the DATES section of this notice for information on making requests to give oral presentations at the meeting and on making written submissions.

Dated: August 11, 2004.
Todd A. Stevenson,
Secretary, Consumer Product Safety Commission.

[FR Doc. 04-18671 Filed 8-13-04; 8:45 am]

BILLING CODE 6355-01-P